DEPARTMENT OF ENERGY

Environmental Management Site-Specific Advisory Board, Hanford; Notice of Open Meeting

AGENCY: Department of Energy.

ACTION: Notice of Open Meeting.

SUMMARY: This notice announces a meeting of the Environmental Management Site-Specific Advisory Board (EM SSAB), Hanford. The Federal Advisory Committee Act (Pub. L. No. 92-463, 86 Stat. 770) requires that public notice of these meetings be announced in the Federal Register.

DATES: Thursday, February 1, 2001: 9:00 a.m.-4:30 p.m.; Friday, February 2, 2001: 8:30 a.m.-3:00 p.m.

ADDRESSES: West Coast Hotel (formerly Cavanaugh's), 1101 North Columbia Center Boulevard, Kennewick, WA (509-783-0611).

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda:

Thursday, February 1, 2001

Morning

• Hanford Advisory Board Chair Transition

• Spent Fuel—Update from the Department of Energy

• New Tank Waste Treatment Contract (EPA)

• Overview of contract—technical, financial, regulatory (EPA)

Afternoon

• Reconsideration of committee structure (Board discussion)

• Discussion of FY 2003 Budget Development Process and product from the Board

Friday, February 2, 2001

Morning

• Emerging Tri-Party Agreement (TPA) Issues

• SSAB Issue

• February SSAB Chairs Meeting

• Discussion on Proposing a SSAB Groundwater/Vadoze Workshop

Afternoon

• Status of Solid (Radioactive and Hazardous) Waste Draft EIS

• Update on Contracts, e.g., Fluor Hanford Extension

• Discussion of 2012 Advice issued by the Board in December

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9:00 a.m. and 4:00 p.m., Monday-Friday, except Federal holidays. Minutes will also be available by writing to Gail McClure, Department of Energy Richland Operation Office, P.O. Box 550, Richland, WA 99352, or by calling her at (509) 373-5647.

Issued at Washington, DC on December 29, 2000.
Rachel M. Samuel,
Deputy, Advisory Committee Management Officer.

[FR Doc. 01-246 Filed 1-3-01; 8:45 am]

BILLING CODE 6450-01-P